DEPARTMENT OF THE INTERIOR

Bureau of Safety and Environmental Enforcement

[Docket ID No. BSEE-2011-0005; OMB Number 1014-NEW]

Information Collection Activities: Operations in the Outer Continental Shelf for Minerals Other Than Oil, Gas, and Sulphur; Submitted for Office of Management and Budget (OMB) Review; Comment Request

ACTION: 30-day Notice.

SUMMARY: To comply with the Paperwork Reduction Act of 1995 (PRA), we are notifying the public that we have submitted to OMB an information collection request (ICR) for approval of the paperwork requirements in the regulations under Operations in the Outer Continental Shelf for Minerals Other than Oil, Gas, and Sulphur. This notice also provides the public a second opportunity to comment on the revised paperwork burden of these regulatory requirements.

DATES: You must submit comments by April 13, 2012.

ADDRESSES: Submit comments by either fax (202) 395-5806 or email (OIRA_DOCKET@omb.eop.gov) directly to the Office of Information and Regulatory Affairs, OMB, Attention: Desk Officer for the Department of the Interior (1014-NEW). Please provide a copy of your comments to BSEE by any of the means below.

• Electronically: go to http://www.regulations.gov. In the entry titled, “Enter Keyword or ID,” enter BSEE-2011-0005 then click search. Follow the instructions to submit public comments and view all related materials. We will post all comments.

• Email cheryl.blundon@bsee.gov, fax (703) 787-1546, or mail or hand-carry comments to: Department of the Interior; Bureau of Safety and Environmental Enforcement; Attention: Cheryl Blundon; 381 Elden Street, HE3313; Herndon, Virginia 20170-4817. Please reference 1014—NEW in your comment and include your name and return address.

FOR FURTHER INFORMATION CONTACT: Cheryl Blundon, Regulations Development Branch, (703) 787-1607, to request additional information about this ICR. To see a copy of the entire ICR submitted to OMB, go to http://www.reginfo.gov (select Information Collection Review, Currently Under Review).

SUPPLEMENTARY INFORMATION: Title: 30 CFR 282, Operations in the Outer Continental Shelf for Minerals Other than Oil, Gas, and Sulphur.

OMB Control Number: 1014-NEW.

Abstract: The Outer Continental Shelf (OCS) Lands Act, as amended (43 U.S.C. 1334 and 43 U.S.C. 1337(k)), authorizes the Secretary of the Interior to implement regulations to grant leases of any mineral other than oil, gas, and sulphur to qualified parties. This regulation governs mining operations within the OCS and establishes a comprehensive leasing and regulatory program for such minerals. This regulation has been designed to (1) recognize the differences between the OCS activities associated with oil, gas, and sulphur discovery and development and those associated with the discovery and development of other minerals; (2) facilitate participation by States directly affected by OCS mining activities; (3) provide opportunities for consultation and coordination with other OCS users and uses; (4) balance development with environmental protection; (5) insure a fair return to the public; (6) preserve and maintain free enterprise competition; and (7) encourage the development of new technology.

The authorities and responsibilities described above are among those delegated BSEE. Therefore, this ICR addresses the regulations at 30 CFR 282, Operations in the Outer Continental Shelf for Minerals Other than Oil, Gas, and Sulphur. It should be noted that there has been no activity in the OCS for minerals other than oil, gas and sulphur for many years and no information collected. However, because these are regulatory requirements, the potential exists for information to be collected; therefore, we are requesting this collection of information be approved by OMB.

To accommodate the split of regulations from the Bureau of Ocean Energy Management, Regulation and Enforcement to BSEE, BSEE is requesting OMB approval of the already approved burden hours under 1010-0081 to reflect BSEE's new 1014 numbering system.

Responses are mandatory. No questions of a sensitive nature are asked. BSEE protects proprietary information according to the Freedom of Information Act (5 U.S.C. 552) and its implementing regulations (43 CFR 2), and 30 CFR 282.5, 282.6, and 282.7.

BSEE collects information required under part 282 to determine if lessees are complying with the regulations that implement the mining operations program for minerals other than oil, gas, and sulphur. Specifically, BSEE will use the information:

• To ensure that operations for the production of minerals other than oil, gas, and sulphur in the OCS are conducted in a manner that will result in orderly resource recovery, development, and the protection of the human, marine, and coastal environments.

• To ensure that adequate measures will be taken during operations to prevent waste, conserve the natural resources of the OCS, and to protect the environment, human life, and correlative rights.

• To determine if suspensions of activities are in the national interest, to facilitate proper development of a lease including reasonable time to develop a mine and construct its supporting facilities, and to allow for the construction or negotiation for use of transportation facilities.

• To identify and evaluate the cause(s) of a hazard(s) generating a suspension, the potential damage from a hazard(s) and the measures available to mitigate the potential for damage.

• For technical evaluations that provide a basis for BSEE to make informed decisions to approve, disapprove, or require modification of the proposed activities.

Frequency: On occasion, and as a result of situations encountered.

Description of Respondents: Potential respondents comprise Federal oil, gas, or sulphur lessees and/or operators.

Estimated Reporting and Recordkeeping Hour Burden: The estimated annual hour burden for this information collection is a total of 56 hours. The following chart details the individual components and estimated hour burdens. In calculating the burdens, we assumed that respondents perform certain requirements in the normal course of their activities. We consider these to be usual and customary and took that into account in estimating the burden.

Citation 30 CFR 282 | Reporting or recordkeeping requirement | Hour burden | Average Number of annual responses | Annual burden hours
|  | Non-hour cost burden
Subpart A—General
5 | Request non-disclosure of data and information | 10 | 1 request | 10
6 | Governor(s) of adjacent State(s) request for proprietary data, information, samples, etc., and disclosure agreement with BSEE | 1 | 1 submission | 1
7 | Governor of affected State requests negotiation to settle jurisdictional controversy, etc; enters into an agreement with BSEE | 1 | 1 request | 1
Subtotal |  |  | 3 Responses | 12

Citation 30 CFR 282 | Reporting or recordkeeping requirement | Hour burden | Average Number of annual responses | Annual burden hours
|  | Non-hour cost burden
Subpart B—Jurisdiction and Responsibilities of Director
11(d)(1) | Request consolidation/unitization of two or more leases or lease portions into a single mining unit | 1 | 1 request | 1
11(d)(4) | State requests different method of allocating production | 1 | 1 Request | 1
12(f)(l), (h); 13(d) | Request approval(s) of applicable applications and permits before commencing a mining operation under an approved plan(s) | 20 | 1 request | 20
13(b), (f)(2); 31 | Request suspension or temporary prohibition or production or operations | 2 | 1 request | 2
13(e) | Submit site-specific study plan and results | 8 | 1 study | 8
|  |  | 1 study × $100,000 = $100,000
14 | Submit “green” response copy of Form BSEE-1832 indicating date violations (INCs) corrected, etc | 2 | 1 response | 2
Subtotal |  |  | 6 Responses | 34
|  |  | $100,000 Non-hour cost burden
Subpart C—Obligations and Responsibilities of Lessees
27(b) | Request use of new or alternative technologies, techniques, etc. | 1 | 1 request | 1
27(c) | Notify BSEE of death or serious injury; fire, exploration, or other hazardous event; submit report | 1 | 1 notification | 1
27(d)(2) | Request reimbursement for furnishing food, quarters, and transportation for BSEE representatives (no requests received in many years; minimal burden) | 2 | 1 request | 2
27(e) | Identify vessels, platforms, structures, etc. with signs | 1 | 1 sign | 1
27(f)(2) | Log all drill holes susceptible to logging; submit copies of logs to BSEE | 3 | 1 log | 3
27(h)(3), (4) | Mark equipment; record items lost overboard; notify BSEE | 1 | 1 notification | 1
28(d) | Demonstrate effectiveness procedure(s) for mitigating environmental impacts | 1 | 1 demonstration | 1
Subtotal |  |  | 7 Responses | 10
Subpart E—Appeals
50 | File an appeal | Burden exempt under 5 CFR 1320.4(a)(2), (c). |  | 0
Total burden |  |  | 16 Responses | 56
|  |  | $100,000 non-hour cost burden

Estimated Reporting and Recordkeeping Non-Hour Cost Burden: We have identified one paperwork non-hour cost burden associated with the collection of information. Under § 282.13(e)(1), a site-specific study would be required to determine and evaluate hazards that results in a suspension of operation. Since this has not been done to date, BSEE estimated that this study would cost approximately $100,000. There are no other non-hour cost burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the collection is necessary or useful; (b) evaluate the accuracy of the burden of the proposed collection of information; (c) enhance the quality, usefulness, and clarity of the information to be collected; and (d) minimize the burden on the respondents, including the use of technology.

To comply with the public consultation process, on December 22, 2011, we published a Federal Register notice (76 FR 79705) announcing that we would submit this ICR to OMB for approval. The notice provided the required 60-day comment period. In addition, § 282.0 provides the OMB control number for the information collection requirements imposed by the 30 CFR 282 regulations. The regulation also informs the public that they may comment at any time on the collections of information and provides the address to which they should send comments. We have received no comments in response to these efforts.

Public Availability of Comments: Before including your address, phone number, email address, or other personal identifying information in your comment, you should be aware that your entire comment—including your personal identifying information—may be made publicly available at any time. While you can ask us in your comment to withhold your personal identifying information from public review, we cannot guarantee that we will be able to do so.

Dated: March 2, 2012.
Douglas W. Morris,
Chief, Office of Offshore Regulatory Programs.

[FR Doc. 2012-6155 Filed 3-13-12; 8:45 am]

BILLING CODE 4310-VH-P